DEPARTMENT OF DEFENSE

Department of the Air Force

[Docket ID: USAF-2018-HQ-0002]

Submission for OMB Review; Comment Request

AGENCY: Department of the Air Force, DoD.

ACTION: 30-Day information collection notice.

SUMMARY: The Department of Defense has submitted to OMB for clearance the following proposal for collection of information under the provisions of the Paperwork Reduction Act.

DATES: Consideration will be given to all comments received by September 17, 2018.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Fred Licari, 571-372-0493, or whs.mc-alex.esd.mbx.dd-dod-information-collections@mail.mil.

SUPPLEMENTARY INFORMATION: Title; Associated Form; and OMB Number: National Defense Science and Engineering Graduate (NDSEG) Fellowships Program; OMB Number 0701-0154.

Type of Request: Extension.

Number of Respondents: 3,577.

Responses per Respondent: 1.

Annual Responses: 3,577.

Average Burden per Response: 12 Hours.

Annual Burden Hours: 42,924.

Needs and Uses: The information collection requirement is necessary to obtain Support of Science, Mathematics, and Engineering Education to 10 U.S.C. 2191 which states that “the Secretary of Defense shall prescribe regulations providing for the award of fellowships to citizens and nationals of the United States who agree to pursue graduate degrees in science, engineering or other fields of study designated by the Secretary (of Defense) to be of priority interest to the DoD. The DoD is committed to increasing the number and quality of the nation's scientists and engineers. The NDSEG fellowships allow recipients to pursue their graduate studies at whichever United States institution they choose to attend. The goal is to provide the United States with talented, doctorally trained, American men and women who will lead state of the art research projects in disciplines having the greatest payoff to national defense requirements. Recipients shall be selected on the basis of a nationwide competition. Application information will be used for evaluation and selection of students to be awarded fellowships.

Affected Public: Individuals or Households.

Frequency: Annually.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Frederick Licari.

Requests for copies of the information collection proposal should be sent to Mr. Licari at whs.mc-alex.esd.mbx.dd-dod-information-collections@mail.mil.

Dated: August 14, 2018.
Shelly E. Finke,
Alternate OSD Federal Register, Liaison Officer, Department of Defense.

[FR Doc. 2018-17778 Filed 8-16-18; 8:45 am]

BILLING CODE 5001-06-P